DEPARTMENT OF JUSTICE

Antitrust Division

Notice Pursuant to the National Cooperative Research and Production Act of 1993—The Frame Relay Forum

Notice is hereby given that, on October 5, 2001, pursuant to Section 6(a) of the National Cooperative Research and Production Act of 1993, 15 U.S.C. 4301 et seq. (“the Act”), The Frame Relay Forum has filed written notifications simultaneously with the Attorney General and the Federal Trade Commission disclosing changes in its membership status. The notifications were filed for the purpose of extending the Act's provisions limiting the recovery of antitrust plaintiffs to actual damages under specified circumstances. Specifically, 3Com Corporation, San Jose, CA; Avantel S.A., Cuajimalpa, Distrito Federal, Mexico; BRECIS Communications, San Jose, CA; Cabletron Systems, Rochester, NH; Caspian Systems, San Jose, CA; C-Dot, New Delhi, India; Comnet Iletism Hizmetleri, Istanbul, Turkey; Crosskeys Systems Corporation, Kanata, Ontario, Canada; CS Telecom, Fontenay aux Roses, France; Develcon Electronics, Toronto, Ontario, Canada; EICON Technology, Montreal, Quebec, Canada; ENERGIS Communications, Ltd., London, United Kingdom; Ennovate Networks, Boxboro, MA; Expand Networks, Langhorne, PA; Fujitsu Nexion, Acton, MA; GN Nettest, Markham, Ontario, Canada; Hypercom, Inc., Phoenix, AZ; IIR Limited, London, United Kingdom; InComA, Ltd., Moscow, Russia; Infinitec Communications, Tulsa, OK; Institut ERIS, Massy, France; Intertek Testing Services, Lexington, KY; JTEC PTY Ltd., Meadowbank, NSW, Australia; Krawutschke Consulting and Management, Durmersheim, Germany; Motorola, Mississuaga, Ontario, CANADA; NetPlane, Dedham, MA; NetScout, Westford, MA; Next Level Communications, Rohnert Park, CA; Northgate-Cyberzone, Manila, Philippines; Norweb Telecon, Manchester, United Kingdom; Omnico, Fort Lauderdale, FL; Science Dynamics Corporation, Cherry Hill, NJ; Siemens AG, Munich, Germany; Sitara Networks, Waltham, MA; Spider Software Limited, Edinburgh, United Kingdom; Sync Research, Irvine, CA; Trillium Digital Systems, Inc., Los Angeles, CA; TTC, Germantown, MD; University of Hawaii, Honolulu, HI; and Verizon Communications, Boston, MA have been dropped as parties to this ventrue. The following members have been involved in acquisitions: Clarent Corporation, Redwood City, CA acquired ACT Networks, Brossard, Quebec, Canada; Global One, Paris, France acquire France Telecom, Issy des Meaux, France; Equant, Reston, VA acquired Global One, Reston, VA; and Qwest Communications International, Denver, CO acquired US West, Denver, CO. The following members have changed their names: Fluke Corporation, Everett, WA to Fluke Networks, Inc., Everett, WA; and H3 Comm. Consultancy, Felixstowe, United Kingdom to Accent-on-Networks, Felixstowe, United Kingdom.

No other changes have been made in either the membership or planned activity of the group research project. Membership in this group research project remains open, and The Frame Relay Forum intends to file additional written notification disclosing all changes in membership.

On April 10, 1992, The Frame Relay Forum filed its original notification pursuant to Section 6(a) of the Act. The Department of Justice published a notice in the Federal Register pursuant to Section 6(b) of the Act on July 2, 1992 (57 FR 29537).

The last notification was filed with the Department on April 27, 2000. A notice was published in the Federal Register pursuant to Section 6(b) of the Act on August 9, 2000 (65 FR 48736).

Constance K. Robinson,
Director of Operations, Antitrust Division.

[FR Doc. 01-30160 Filed 12-4-01; 8:45 am]

BILLING CODE 4410-11-M